COMMITTEE FOR PURCHASE FROM PEOPLE WHO ARE BLIND OR SEVERELY DISABLED

Procurement List; Additions and Deletion

AGENCY: Committee for Purchase From People Who Are Blind or Severely Disabled.

ACTION: Additions to and deletion from the procurement list.

SUMMARY: This action adds to the Procurement List products and a service to be furnished by nonprofit agencies employing persons who are blind or have other severe disabilities, and deletes from the Procurement List a service previously furnished by such agencies.

DATES: Effective Date: September 16, 2007.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@jwod.gov.

SUPPLEMENTARY INFORMATION:

Additions

On June 8, June 15 and June 22, 2007 the Committee for Purchase From People Who Are Blind or Severely Disabled published notice (72 FR 31805; 33199; 33200; 34433) of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

Ballpoint Pen, Stick

NSN: 7520-00-NIB-1793—Round Stick Pen “Alpha Basic” Red.

NSN: 7520-00-NIB-1794—Antimicrobial Round Stick Pen “Alpha Basic” Black.

NSN: 7520-00-NIB-1795—Antimicrobial Round Stick Pen “Alpha Basic” Blue.

NSN: 7520-00-NIB-1796—Round Stick Pen “Alpha Basic” Black w/Grip.

NSN: 7520-00-NIB-1797—Round Stick Pen “Alpha Basic” Blue w/Grip.

NSN: 7520-00-NIB-1798—Round Stick Pen “Alpha Basic” Red w/Grip.

NPA: Alphapointe Association for the Blind, Kansas City, MO.

Coverage: A-List—for the total Government requirement as specified by the General Services Administration.

Contracting Activity: General Services Administration, Region 2, Office Supplies & Paper Products Acquisition Ctr., New York, NY.

BioRenewable Cleaners

NSN: 4510-00-NIB-0014—Waterless Hand Cleaner Dispenser.

NSN: 4510-00-NIB-0019—Foamy Hand Cleaner Dispenser.

NSN: 7930-00-NIB-0329—TriBase Multi Purpose Cleaner (1GL).

NSN: 7930-00-NIB-0330—BioRenewables Glass Cleaner RTU (32 oz).

NSN: 7930-00-NIB-0331—BioRenewables Glass Cleaner (1-GL).

NSN: 7930-00-NIB-0391—BioRenewables Industrial Degreaser (5-GL).

NSN: 7930-00-NIB-0433—Graffiti Remover SAC (32 oz).

NSN: 7930-00-NIB-0434—Graffiti Remover SAC (1GL).

NSN: 7930-00-NIB-0437—BioRenewables Restroom Cleaner (32 oz).

NSN: 8520-00-NIB-0020—Lite'n Foamy Hand, Hair, and Body Wash—Sunflower Fresh Intro.

NSN: 8520-00-NIB-0094—BioRenewables Waterless Plus Hand Cleaner Refill.

NSN: 8520-00-NIB-0095—BioRenewables Waterless Hand Cleaner Intro.

NSN: 8520-00-NIB-0096—BioRenewables Waterless Hand Cleaner Refill.

NSN: 8520-00-NIB-0097—BioRenewables Waterless Plus Hand Cleaner Intro.

NSN: 8520-00-NIB-0098—Lite'n Foamy Hand, Hair, and Body Wash—Sunflower Fresh Refill.

NPA: Susquehanna Association for the Blind and Visually Impaired, Lancaster, PA.

Coverage: B-List—for the broad Government requirement as specified by the General Services Administration.

Contracting Activity: General Services Administration, Southwest Supply Center, Fort Worth, TX.

Folder, File, Pressboard

NSN: 7530-00-NIB-0822—Folder, File, Pressboard.

NPA: Georgia Industries for the Blind, Bainbridge, GA.

Coverage: A-List—for the total Government requirement as specified by the General Serviers Administration.

Contracting Activity: General Services Administration, Office Supplies & Paper Products Acquisition Ctr, New York, NY.

Power Duster (Dust Remover, Compressed Gas)

NSN: 7930-01-398-2473—10 oz. pressurized air duster removes dust, dirt and other contaminants from computers, keyboards, printers, electronic and photo equipment.

NPA: Lighthouse for the Blind, St. Louis, MO.

Coverage: A-List—for the total Government requirement as specified by the General Services Administration.

Contracting Activity: General Services Administration, Southwest Supply Center, Fort Worth, TX.

Spices

NSN: 8950-00-NSH-0080—Chili Powder Blend, 10 lb.

NSN: 8950-00-NSH-0081—Cinnamon, Ground 10 lb.

NSN: 8950-00-NSH-0082—Garlic Powder, 10 lb.

NSN: 8950-00-NSH-0083—Paprika 10 lb.

NSN: 8950-00-NSH-0084—Pepper, Black, Ground, 10 lb.

NPA: Continuing Developmental Services, Inc., Fairport, NY.

Coverage: C-List—for the requirements of the Federal Correctional Institution, Bureau of Prisons, Elkton, OH.

Contracting Activity: Federal Correctional Institution, Bureau of Prisons, Elkton, OH.

Undershirt, Man's, Blue

NSN: 8420-01-540-0611—XX Small.

NSN: 8420-01-540-0612—X Small.

NSN: 8420-01-540-0614—Small.

NSN: 8420-01-540-1758—Medium.

NSN: 8420-01-540-1759—Large.

NSN: 8420-01-540-1760—X Large.

NSN: 8420-01-540-1761—XX Large.

NSN: 8420-01-540-1762—XXX Large.

NPA: The Arkansas Lighthouse for the Blind, Little Rock, AR.

Coverage: C-List—for the requirements of the Defense Supply Center Philadelphia, Philadelphia PA.

Contracting Activity: Defense Supply Center Philadelphia, Philadelphia, PA.

Service

Service Type/Location: Vehicle Washing Service, U.S. Customs and Border Protection, Puerto Rico and Virgin Islands, San Juan, PR.

NPA: The Corporate Source, Inc., New York, NY.

Contracting Activity: Department of Homeland Security, U.S. Customs and Border Protection, Indianapolis, IN.

Deletion

On June 22, 2007, the Committee for Purchase From People Who Are Blind or Severely Disabled published notice (72 FR 34434) of proposed deletions to the Procurement List.

After consideration of the relevant matter presented, the Committee has determined that the service listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Family Housing Maintenance, Sheppard Air Force Base, Sheppard AFB, TX.

NPA: Work Services Corporation, Wichita Falls, TX.

Contracting Activity: U.S. Air Force—Air Education and Training Command, Sheppard AFB, TX.

Kimberly M. Zeich,
Director, Program Operations.

[FR Doc. E7-16221 Filed 8-16-07; 8:45 am]

BILLING CODE 6353-01-P